COMMODITY FUTURES TRADING COMMISSION

Sunshine Act Meetings

FEDERAL REGISTER CITATION OF PREVIOUS ANNOUNCEMENT: 78 FR 70539, Nov. 26, 2013.

PREVIOUSLY ANNOUNCED TIME AND DATE OF THE MEETING: 10:00 a.m., Friday, December 13, 2013.

CHANGES IN THE MEETING: Adjudicatory Matters are being added to the previously announced list of matters to be considered at this closed meeting.

CONTACT PERSON FOR MORE INFORMATION: Melissa D. Jurgens, 202-418-5516.

Natise Stowe,
Executive Assistant.

[FR Doc. 2013-29296 Filed 12-4-13; 4:15 pm]

BILLING CODE 6351-01-P